DEPARTMENT OF TRANSPORTATION

Federal Aviation Administration

14 CFR Part 39

[Docket No. FAA-2004-19561; Directorate Identifier 2004-NM-50-AD; Amendment 39-13972; AD 2005-03-16]

RIN 2120-AA64

Airworthiness Directives; Raytheon Model DH.125, HS.125, and BH.125 Series Airplanes; BAe.125 Series 800A (C-29A and U-125) and 800B Airplanes; and Hawker 800 (Including Variant U-125A) and 800XP Airplanes; Equipped with TFE731 Engines

AGENCY: Federal Aviation Administration (FAA), Department of Transportation (DOT).

ACTION: Final rule.

SUMMARY: The FAA is adopting a new airworthiness directive (AD) for certain Raytheon Model DH.125, HS.125, and BH.125 series airplanes; BAe.125 series 800A (C-29A and U-125) and 800B airplanes; and Hawker 800 (including variant U-125A) and 800XP airplanes. This AD requires installing insulating blankets on the engine compartment firewall and the wire harness passing through the firewall fairlead. This AD is prompted by a report indicating that insulation on the wire harness passing through the firewall fairlead ignited on the fuselage side of the firewall. We are issuing this AD to prevent a fire in the engine compartment from causing possible ignition of outgassing wire insulation on the fuselage side of the firewall, which could lead to an uncontrollable fire in the fuselage.

DATES: This AD becomes effective March 21, 2005.

The incorporation by reference of a certain publication listed in the AD is approved by the Director of the Federal Register as of March 21, 2005.

ADDRESSES: For service information identified in this AD, contact Raytheon Aircraft Company, Department 62, P.O. Box 85, Wichita, Kansas 67201-0085. You can examine this information at the National Archives and Records Administration (NARA). For information on the availability of this material at NARA, call (202) 741-6030, or go to: http://www.archives.gov/federal_register/code_of_federal_regulations/ibr_locations.html.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2004-19561; the directorate identifier for this docket is 2004-NM-50-AD.

FOR FURTHER INFORMATION CONTACT: Jeff Pretz, Aerospace Engineer, Airframe Branch, ACE-118W, FAA, Wichita Aircraft Certification Office, 1801 Airport Road, room 100, Mid-Continent Airport, Wichita, Kansas 67209; telephone (316) 946-4153; fax (316) 946-4407.

SUPPLEMENTARY INFORMATION: The FAA proposed to amend 14 CFR Part 39 with an AD for certain Raytheon Model DH.125, HS.125, and BH.125 series airplanes; BAe.125 series 800A (C-29A and U-125) and 800B airplanes; and Hawker 800 (including variant U-125A) and 800XP airplanes. That action, published in the Federal Register on November 10, 2004 (69 FR 65103), proposed to require installing insulating blankets on the engine compartment firewall and the wire harness passing through the firewall fairlead.

Comments

We provided the public the opportunity to participate in the development of this AD. No comments have been submitted on the proposed AD or on the determination of the cost to the public.

Explanation of Change Made to the Proposal

We inadvertently left the paragraph number off the paragraph headed “No Reporting Requirement” between paragraphs (f) and (g) of the proposed AD. We have identified the specified paragraph as (g) and reidentified the original paragraph (g) to (h) in the final rule.

Conclusion

We have carefully reviewed the available data and determined that air safety and the public interest require adopting the AD with the change described previously. We have determined that this change will neither increase the economic burden on any operator nor increase the scope of the AD.

Costs of Compliance

There are about 804 airplanes of the affected design in the worldwide fleet. This AD will affect about 530 airplanes of U.S. registry. The actions will take about 8 work hours per airplane, at an average labor rate of $65 per work hour. Required parts will cost about $1,784 per airplane. Based on these figures, the estimated cost of the AD for U.S. operators is $1,221,120, or $2,304 per airplane.

Authority for this Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-03-16 Raytheon Aircraft Company: Amendment 39-13972. Docket No. FAA-2004-19561; Directorate Identifier 2004-NM-50-AD.

Effective Date

(a) This AD becomes effective March 21, 2005.

Affected ADs

(b) None.

Applicability

(c) This AD applies to Raytheon Model DH.125, HS.125, and BH.125 series airplanes; BAe.125 series 800A (C-29A and U-125) and 800B airplanes; and Hawker 800 (including variant U-125A) and 800XP airplanes; certificated in any category; equipped with TFE731 engines; as identified in Raytheon Service Bulletin SB 26-3496, dated November 2003.

Unsafe Condition

(d) This AD was prompted by a report indicating that insulation on the wire harness passing through the firewall fairlead ignited on the fuselage side of the firewall. We are issuing this AD to prevent a fire in the engine compartment from causing possible ignition of outgassing wire insulation on the fuselage side of the firewall, which could lead to an uncontrollable fire in the fuselage.

Compliance

(e) You are responsible for having the actions required by this AD performed within the compliance times specified, unless the actions have already been done.

Installation of Insulating Blankets

(f) Within 12 months after the effective date of this AD, install insulating blankets on the engine compartment firewall and the wire harness passing through the firewall fairlead, by doing all the actions in accordance with the Accomplishment Instructions of Raytheon Service Bulletin SB 26-3496, dated November 2003.

No Reporting Requirement

(g) The service bulletin describes procedures for reporting accomplishment of the service bulletin to the manufacturer; however, this AD does not require that action.

Alternative Methods of Compliance (AMOCs)

(h) The Manager, Wichita Aircraft Certification Office (ACO), FAA, has the authority to approve AMOCs for this AD, if requested in accordance with the procedures found in 14 CFR 39.19.

Material Incorporated by Reference

(i) You must use Raytheon Service Bulletin SB 26-3496, dated November 2003, to perform the actions that are required by this AD, unless the AD specifies otherwise. The Director of the Federal Register approves the incorporation by reference of this document in accordance with 5 U.S.C. 552(a) and 1 CFR part 51. For copies of the service information, contact Raytheon Aircraft Company, Department 62, P.O. Box 85, Wichita, Kansas 67201-0085. For information on the availability of this material at the National Archives and Records Administration (NARA), call (202) 741-6030, or go to http://www.archives.gov/federal_register/ code_of_federal_regulations /ibr_locations.html. You may view the AD docket at the Docket Management Facility, U.S. Department of Transportation, 400 Seventh Street SW., room PL-401, Nassif Building, Washington, DC.

Issued in Renton, Washington, on January 31, 2005.
Kalene C. Yanamura,
Acting Manager, Transport Airplane Directorate, Aircraft Certification Service.

[FR Doc. 05-2577 Filed 2-11-05; 8:45 am]

BILLING CODE 4910-13-P